COMMITTEE FOR THE IMPLEMENTATION OF TEXTILE AGREEMENTS

Designation Under the Textile and Apparel Commercial Availability Provisions of the Andean Trade Preference Drug Eradication Act (ATPDEA)

March 21, 2006.

AGENCY: The Committee for the Implementation of Textile Agreements (CITA)

ACTION: Designation.

EFFECTIVE DATE: March 27, 2006.

SUMMARY: CITA has determined that certain 100 percent cotton woven flannel fabrics, made from 21 through 36 NM single ring-spun yarns, of 2 x 2 twill weave construction, weighing not more than 200 grams per square meter, classified in subheading 5208.43.0000 of the Harmonized Tariff Schedule of the United States (HTSUS), for use in shirts, trousers, nightwear, robes and dressing gowns, and woven underwear, cannot be supplied by the domestic industry in commercial quantities in a timely manner. CITA hereby designates such apparel articles that are sewn or otherwise assembled in one or more eligible ATPDEA beneficiary countries from such fabrics, as eligible for quota-free and duty-free treatment under the textile and apparel commercial availability provisions of the ATPDEA and eligible under HTSUS subheadings 9821.11.10, provided that all other fabrics in the referenced apparel articles are wholly formed in the United States from yarns wholly formed in the United States, including fabrics not formed from yarns, if such fabrics are classifiable under HTS heading 5602 or 5603, and are wholly formed in the United States. CITA notes that this designation under the ATPDEA renders such apparel articles, sewn or otherwise assembled in one or more eligible ATPDEA beneficiary countries, as eligible for quota-free and duty-free treatment under HTSUS subheading 9821.11.13, provided the requirements of that subheading are met.

FOR FURTHER INFORMATION CONTACT: Maria K. Dybczak, Office of Textiles and Apparel, U.S. Department of Commerce, (202) 482-3400.

SUPPLEMENTARY INFORMATION:

Authority: Section 204 (b)(3)(B)(ii) of the ATPDEA, Presidential Proclamation 7616 of October 31, 2002, Executive Order 13277 of November 19, 2002, and the United States Trade Representative's Notice of Further Assignment of Functions of November 25, 2002.

Background

The ATPDEA provides for quota- and duty-free treatment for qualifying textile and apparel products. Such treatment is generally limited to products manufactured from yarns and fabrics formed in the United States or a beneficiary country. The ATPDEA also provides for quota- and duty-free treatment for apparel articles that are both cut (or knit-to-shape) and sewn or otherwise assembled in one or more ATPDEA beneficiary countries from fabric or yarn that is not formed in the United States or a beneficiary country, if it has been determined that such fabric or yarn cannot be supplied by the domestic industry in commercial quantities in a timely manner. Pursuant to Executive Order No. 13277 (67 FR 70305) and the United States Trade Representative's Notice of Redelegation of Authority and Further Assignment of Functions (67 FR 71606), the President's authority to determine whether yarns or fabrics cannot be supplied by the domestic industry in commercial quantities in a timely manner under the ATPDEA has been delegated to CITA.

On November 18, 2005, the Chairman of CITA received a petition from Oxford Industries alleging that certain 100 percent cotton woven flannel fabrics, made from 21 through 36 NM single ring-spun yarns, of 2 X 2 twill weave construction, weighing not more than 200 grams per square meter, classified under HTSUS subheading 5208.43.0000, cannot be supplied by the domestic industry in commercial quantities in a timely manner and requesting quota- and duty-free treatment under the ATPDEA of such fabrics, for use in the manufacture of shirts, trousers, nightwear, robes and dressing gowns and woven underwear in one or more ATPDEA beneficiary countries for export to the United States.

On November 25, 2005, CITA requested public comment on the petition. See Request for Public Comment on Commercial Availability Petition under the Andean Trade Promotion and Drug Eradication Act (ATPDEA), 70 FR 71089 (November 25, 2005). On December 13, 2005, CITA and the U.S. Trade Representative (USTR) sought the advice of the Industry Trade Advisory Committee (ITAC) for Textiles and Clothing and the ITAC for Distribution Services. No advice was received from either ITAC. On December 13, 2005, CITA and USTR offered to hold consultations with the Committee on Ways and Means of the House of Representatives and the Committee on Finance of the Senate (collectively, the Congressional Committees). No consultations were requested regarding this petition. USTR requested the advice of the U.S. International Trade Commission (ITC). On January 9, 2006, the ITC provided advice on the petition.

Based on the information and advice received and its understanding of the industry, CITA determined that the fabrics set forth in the petition cannot be supplied by the domestic industry in commercial quantities in a timely manner. On January 13, 2006, CITA and USTR submitted a report to the Congressional Committees that set forth the action proposed, the reasons for such action, and the advice obtained. A period of 60 calendar days since this report was submitted has expired, as required by the ATPDEA.

CITA hereby designates as eligible to enter free of quotas and duties, under HTSUS subheading 9821.11.10, if used in shirts, trousers, nightwear, robes and dressing gowns and woven underwear that are sewn or otherwise assembled in one or more eligible ATPDEA beneficiary countries, from certain 100 percent cotton woven flannel fabrics, made from 21 through 36 NM single ring-spun yarns, of 2 x 2 twill weave construction, weighing not more than 200 grams per square meter, classified in HTSUS subheading 5208.43.0000, not formed in the United States. The referenced apparel articles are eligible provided that all other fabrics are wholly formed in the United States from yarns wholly formed in the United States, including fabrics not formed from yarns, if such fabrics are classifiable under HTS heading 5602 or 5603 and are wholly formed in the United States, subject to the special rules for findings and trimmings, certain interlinings and de minimis fibers and yarns under section 204(b)(3)(B)(vi) of the ATPDEA, and that such articles are imported directly into the customs territory of the United States from an eligible ATPDEA beneficiary country.

An “eligible ATPDEA beneficiary country” means a country which the President has designated as an ATPDEA beneficiary country under section 203(a)(1) of the Andean Trade Preference Act (ATPA) (19 U.S.C. 3202(a)(1)), and which has been the subject of a finding, published in the Federal Register, that the country has satisfied the requirements of section 203(c) and (d) of the ATPA (19 U.S.C. 3202(c) and (d)), resulting in the enumeration of such country in U.S. note 1 to subchapter XXI of Chapter 98 of the HTSUS.

Philip J. Martello,
Acting Chairman, Committee for the Implementation of Textile Agreements.

[FR Doc. E6-4405 Filed 3-24-06; 8:45 am]

BILLING CODE 3510-DS-S